DEPARTMENT OF ENERGY

Federal Energy Regulatory Commission

[Docket No. EL01-16-000]

Pontook Operating Limited Partnership, Complainant, v. Public Service Company of New Hampshire, Respondent; Notice of Complaint

December 1, 2000.

Take notice that on November 30, 2000, Pontook Operating Limited Partnership (Pontook) filed a complaint and request for relief under section 206 of the Federal Power Act (FPA), 16 U.S.C. § 824e(2000), alleging that its transmission agreement with PSNH subjects it to unjust and unreasonable transmission rates in violation of section 205 of the FPA and the Commission's transmission pricing policies.

Pontook requests that the Commission (1) terminate its transmission agreement with PSNH effective November 1, 2000, or in the alternative, terminate its transmission agreement with PSNH effective immediately; (2) allow it to take transmission service under the New England Power Pool (NEPOOL) Open Access Transmission Tariff and Northeast Utilities' (NU) Open Access Transmission Tariff; and (3) order PSNH to refund to Pontook all transmission charges that Pontook paid pursuant to the Transmission agreement since the Commission's 1992 order approving PSNH's merger with NU; or in the alternative, order PSNH to refund to Pontook transmission charges that PSNH collected improperly from Pontook purportedly pursuant to the Transmission Agreement since (a) the Commission's May 1996 issuance of Order No. 888, or (b) the December 1996 filing of the NEPOOL Tariff, or (c) November 1, 2000—the natural termination date of the transmission agreement between Pontook and PSNH.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 20, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before December 20, 2000. Comments and protests may be filed electronically via the internet in lieu of paper. See, 18 CFR 385.2001(a)(1)(iii) and the instructions on the Commission's web site at http://www.ferc.fed.us/efi/doorbell.htm.

David P. Boergers,
Secretary.

[FR Doc. 00-31163 Filed 12-6-00; 8:45 am]

BILLING CODE 6717-01-M